DEPARTMENT OF HEALTH AND HUMAN SERVICES

Public Health Service

National Toxicology Program; Amended Notice of Meeting

Notice is hereby given of the cancellation of the meeting of the National Toxicology Program (NTP) Advisory Committee on Alternative Toxicological Methods. The meeting was originally scheduled for September 25, 2001, 9 am to adjournment, in the Rodbell Auditorium, Rall Building, South Campus, National Institute of Environmental Health Sciences (NIEHS), 111 T.W. Alexander Drive, Research Triangle Park, North Carolina. A notice of this meeting was published in the Federal Register (August 31, 2001: Vol. 66, No. 170, pages 46020-46021). Further inquiry can be directed to the NTP Executive Secretary, Dr. Mary S. Wolfe (NTP, P.O. Box 12233, 111 T.W. Alexander Drive, A3-07, NIEHS, Research Triangle Park, North Carolina 27709, telephone: 919-541-3971 and FAX: 919-541-0295).

Dated: September 18, 2001.
Samuel H. Wilson,
Deputy Director, National Institute of Environmental Health Sciences.

[FR Doc. 01-24034 Filed 9-25-01; 8:45 am]

BILLING CODE 4140-01-M